DEPARTMENT OF THE INTERIOR

National Park Service

National Register of Historic Places; Notification of Pending Nominations

Nominations for the following properties being considered for listing in the National Register were received by the National Park Service before May 11, 2002. Pursuant to § 60.13 of 36 CFR Part 60 written comments concerning the significance of these properties under the National Register criteria for evaluation may be forwarded by United States Postal Service, to the National Register Historic Places, National Park Service, 1849 C St. NW, NC400, Washington, DC 20240; by all other carriers, National Register of Historic Places, National Park Service, 800 N. Capitol St., NW, Suite 400, Washington DC 20002; or by fax, 202-343-1836. Written or faxed comments should be submitted by June 18, 2002.

Carol D. Shull,
Keeper of the National Register.

Georgia

Forsyth County

Cumming Bandstand,

Jct. of Main and Dahlonega Sts., Forsyth, 02000658

Louisiana

Lafayette Parish

Brandt House,

614 Madison St.,

Lafayette, 02000654

Pointe Coupee Parish

First National Bank,

102 E. Main St.,

New Roads, 02000653

Michigan

Calhoun County

Bryant, James and Anne Atmore, Farmstead,

12557 L Dr. N. (Convis Township),

Wattles Park, 02000667

Kalamazoo County

Gregory, Richard and Mary Woodward, House,

913 E. Augusta Rd.,

Augusta, 02000666

Oakland County

Reuther, Walter P. and May Wolf, House,

3924-3950-3954 Ellamae (Oakland Township),

Rochester, 02000668

North Dakota

Ramsey County

Episcopal Church of the Advent—Guild Hall,

(Episcopal Churches of North Dakota MPS)

501 6th St. E.,

Devil's Lake, 02000669

Ohio

Summit County

Becker, Francis, House,

(Clinton MRA)

3010 Hickory St.,

Clinton, 02000672

Oklahoma

Grant County

Bank of Nashville, Jct. US 64 and Main Ave.,

Nash, 02000655

Tillman County

Grandfield Downtown Historic District,

100 blk. of W. 2nd St., ½ blk of E. 2nd St., bounded by N. and S. alleys,

Grandfield, 02000656

Tulsa County

Yorktown Historic District,

Roughly bounded by 16th and 17th Sts., Victor and Wheeling Aves., 20th St., and Lewis Ave.,

Tulsa, 02000657

Oregon

Douglas County

Roseburg Downtown Historic District,

Roughly bounded by SP tracks, Deer Creek, Fowler, Chadwick, Kane & Mosher Sts.,

Roseburg, 02000661

Jackson County

Medford Grocery Company Warehouse,

40 E. 10th St.,

Medford, 02000659

Marion County

Oregon State Fair Stadium and Poultry Building Ensemble,

2330 17th St. NE.,

Salem, 02000671

Silver Creek Youth Camp—Silver Falls State Park,

20024 Silver Falls Hwy.,

Sublimity, 02000673

Multnomah County

Hines, Pierre Rossiter and Charlotte, House,

02393 SW. Military Rd.,

Portland, 02000660

Lynch, Matthew J. and Florence, House and Garden,

337 SW. Kingston Ave.,

Portland, 02000674

Portland Railway, Light and Power Sellwood Division Carbarn Office and

Clubhouse,

8825 SE. 11th Ave.,

Portland, 02000670

Vermont

Chittenden County

Underhill State Park,

(Historic Park Landscapes in National and State Parks MPS)

352 Mountain Rd.,

Underhill, 02000665

Orange County

West Fairlee Center Church,

(Religious Buildings, Sites and Structures in Vermont MPS)

3870 Middlebrook Rd.,

West Fairlee, 02000662

Orleans County

King Block,

117 High St.,

Barton, 02000663

Windham County

West Brattleboro Green Historic District,

870-950 Western Ave., 19-35 South St., and town common.,

Brattleboro, 02000675

Windsor County

Ascutney State Park,

(Historic Park Landscapes in National and State Parks MPS)

1826 Back Mountain Rd.,

Windsor, 02000664

[FR Doc. 02-13832 Filed 5-31-02; 8:45 am]

BILLING CODE 4310-70-P